DEPARTMENT OF TRANSPORTATION

Federal Highway Administration

Environmental Impact Statement: Harrison and Stone Counties, MS

AGENCY: Federal Highway Administration (FHWA), Department of Transportation (DOT).

ACTION: Notice of intent.

SUMMARY: The Federal Highway Administration is issuing this notice to advise the public that an Environmental Impact Statement will be prepared for a State Route 601 Highway Study in the above referenced counties in Mississippi.

FOR FURTHER INFORMATION CONTACT: Mr. Cecil Vick, Realty Officer/Environmental Coordinator, Federal Highway Administration, 666 North Street, Suite 105, Jackson, MS 39202-3199, Telephone: (601) 965-4217. Contacts at the State and local level, respectively are: Mr. Claiborne Barnwell, Environmental/Location Division Engineer, Mississippi Department of Transportation, PO Box 1850, Jackson, MS 39215-1850, telephone: (601) 359-7920; and Mr. Richard Lee, District 6 Engineer, Mississippi Department of Transportation, 6356 Highway 49 North, Hattiesburg, MS 39401, telephone (601) 544-6511.

SUPPLEMENTARY INFORMATION: The FHWA, in cooperation with the Mississippi Department of Transportation (MDOT) will prepare an Environmental Impact Statement (EIS) for an approximate 25-mile alignment of State Route 601, which will be built to Interstate standards through the extreme southern portion of Mississippi, moving in a generally north-south alignment. This alignment will have logical termini on the southern end at Interstate 10 in Harrison County near the existing Canal Road interchange and on the northern end in the City of Wiggins in Stone County.

The purpose of the project is to take traffic off of the heavily traveled U.S. Highway 49 and also to link with the proposed Canal Road Connector from U.S. Highway 90 in Gulfport to Interstate 10. This new alignment will be especially beneficial for large trucks utilizing the State port in Gulfport and traveling north as they avoid the congested U.S. Highway 49. The highway is a proposed full control of access facility and appropriate interchanges will be studied at various locations. Alternatives under consideration include (1) taking no action and (2) build alternatives.

The FHWA and MDOT are seeking input as a part of the scoping process to assist in determining and clarifying issues relative to this project. Letters describing the proposed action and soliciting comments will be sent to appropriate federal, state, and local agencies, Native American tribes, private organizations and citizens who have previously expressed or are known to have interest in this proposal. A formal scoping meeting with federal, state, and local agencies, and other interested parties will be held in the near future as well as several public involvement meetings held throughout the EIS process. The draft EIS will be available for public and agency review and comment prior to the official public hearing.

To ensure that the full range of issues related to this proposed action are addressed and all significant issues identified, comments and suggestions are invited from all interested parties. Comments or questions concerning this proposed action and the EIS should be directed to the FHWA at the address provided above.

Andrew H. Hughes,
Division Administrator, Jackson, Mississippi.

[FR Doc. 05-16001 Filed 8-11-05; 8:45 am]

BILLING CODE 4910-22-P